DEPARTMENT OF TRANSPORTATION

National Highway Traffic Safety Administration

Reports, Forms and Recordkeeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden.

DATES: Comments must be submitted on or before April 6, 2005.

FOR FURTHER INFORMATION CONTACT: Tewabe Asebe at the National Highway Traffic Safety Administration (NHTSA), Office of Crashworthiness Standards, (202) 366-2365, 400 Seventh Street, SW., Washington, DC 20590.

SUPPLEMENTARY INFORMATION: In compliance with the Paperwork Reduction Act of 1995 (44 U.S.C. 3501 et seq.), this notice announces that the Information Collection Request (ICR) abstracted below has been forwarded to the Office of Management and Budget (OMB) for review and comment. The ICR describes the nature of the information collections and their expected burden. A Federal Register notice that provided a 60-day comment period was published on June 27, 2003 (68 FR 38418, U.S. DOT Docket Number NHTSA-02-14038), and the agency received no comments.

National Highway Traffic Safety Administration

Title: 49 CFR 571.218, Motorcycle Helmets (Labeling).

OMB Number: 2127-0518.

Type of Request: Regular.

Abstract: FMVSS No. 218, “Motorcycle helmets,” requires labeling for each helmet by the manufacturer. The labeling ensures important safety information to helmet owners and enables NHTSA to identify the helmet manufacturer for enforcing the Standard.

Affected Public: Motorcycle helmet manufacturers.

Estimated Total Annual Burden: The total annual cost to the respondents is estimated as $720,000.

Addresses: Send comments, within 30 days, to the Office of Information and Regulatory Affairs, Office of Management and Budget, 725 17th Street, NW., Washington, DC 20503, Attention NHTSA Desk Officer.

Comments Are Invited On: The accuracy of the Department's estimate of the burden of the motorcycle helmets labeling requirement. The standard's labeling requirement does not require the collection of information by the Federal government. It only requires that the labeling be exhibited on each helmet as specified in the Standard.

A comment to OMB must be received within 30 days of publication.

Issued on: February 28, 2005.
Stephen R. Kratzke,
Associate Administrator for Rulemaking.

[FR Doc. 05-4361 Filed 3-4-05; 8:45 am]

BILLING CODE 4910-59-P